SOCIAL SECURITY ADMINISTRATION

20 CFR Parts 401 and 402

RIN 0960-AG14

Privacy and Disclosure of Official Records and Information

AGENCY: Social Security Administration.

ACTION: Notice of Proposed Rulemaking.

SUMMARY: We propose to amend our privacy and disclosure rules to help preserve the anonymity of, and help protect the physical well-being of, SSA employees who reasonably believe that they are at risk of injury or other harm if certain employment information about them is disclosed. These changes in the regulations would ensure uniform application of the policy for at-risk employees.

DATES: To be sure that your comments are considered, we must receive them no later than August 7, 2006.

ADDRESSES: You may give us your comments by: using our Internet facility (i.e., Social Security Online) at http://policy.ssa.gov/erm/rules.nsf/Rules+Open+To+Comment or the Federal eRulemaking Portal at http://www.regulations.gov; e-mail to regulations@ssa.gov; by telefax to (410) 966-2830, or letter to the Commissioner of Social Security, P.O. Box 17703, Baltimore, MD 21235-7703. You may also deliver them to the Office of Regulations, Social Security Administration, 100 Altmeyer Building, 6401 Security Boulevard, Baltimore, MD. 21235-6401, between 8 a.m. and 4:30 p.m. on regular business days. Comments are posted on our Internet site, or you may inspect them on regular business days by making arrangements with the contact person shown in this preamble.

FOR FURTHER INFORMATION CONTACT: Edie McCracken, Social Insurance Specialist, Office of Public Disclosure, 3-A-6 Operations Building, 6401 Security Boulevard, Baltimore, MD 21235-6401, (410) 965-6117 or TTY (410) 965-5609. For information on eligibility or filing for benefits, call our national toll-free number, 1-800-772-1213 or TTY 1-800-325-0778, or visit our Internet Website, Social Security Online, at http://www.socialsecurity.gov.

SUPPLEMENTARY INFORMATION:

Electronic Version

The electronic file of this document is available on the date of publication in the Federal Register at http://www.gpoaccess.gov/fr/index.html.

Background

Former Commissioner Kenneth S. Apfel approved a recommendation of the National Health and Safety Partnership Committee for Security (NHSPCS) to implement a nationwide program to enhance the safety and security of SSA employees who are victims, or potential victims, of domestic violence. The NHSPCS' proposed program was developed, during the era of “partnership”, by a joint union/management workgroup. It was intended to safeguard the anonymity of at-risk employees when requests for their work location and/or phone number were received, by delaying the disclosure of the information when certain conditions were met. This would have entailed a change in SSA policy that now permits such information requests to be honored. No action was ever taken on the recommendation when the “partnership” was dissolved by Executive Order 13203 on February 17, 2001. We are now proposing a modified approach to strengthening our privacy and disclosure rules to better safeguard at-risk employees.

Explanation of Changes

We propose to amend subsection (b)(3)(c)(4) of Appendix A to Part 401 and add a new subsection (e) to § 402.45 to permit SSA to exercise its discretion, consistent with the Freedom of Information Act and the rules of the Office of Personnel Management (5 CFR part 293), to withhold the work location and telephone number of employees who reasonably believe that they are at risk of injury or other harm by the disclosure of such information. These proposed changes would clarify our procedures for access to, and disclosure of, personally identifiable information regarding employees and enhance our ability to maintain adequate safeguards against disclosures in situations in which an employee may be at risk or fear for his/her physical safety.

We propose to amend Part 401, Appendix A, (b)(3)(c)(4) by removing the first sentence, “Location of duty station, including room number and telephone number.” We also propose to revise § 402.45 by adding a new subsection (e). New subsection § 402.45(e) will fully describe the rules governing the release of personally identifiable information as it pertains to employees' telephone numbers and duty stations (including room numbers, bay designations, or other identifying information regarding buildings or places of employment).

Clarity of These Proposed Rules

Executive Order 12866, as amended by Executive Order 13258, requires each agency to write all rules in plain language. In addition to your substantive comments on these proposed rules, we invite your comments on how to make these proposed rules easier to understand. For example:

• Have we organized the material to suit your needs?

• Are the requirements in the rules clearly stated?

• Do the rules contain technical language or jargon that is not clear?

• Would a different format (grouping and order of sections, use of headings, paragraphing) make the rules easier to understand?

• Would more (but shorter) sections be better?

• Could we improve clarity by adding tables, lists, or diagrams?

• What else could we do to make the rules easier to understand?

Regulatory Procedures

Executive Order 12866

We have consulted with the Office of Management and Budget (OMB) and determined that these proposed rules would meet the criteria for a significant regulatory action under Executive Order 12866, as amended by Executive Order 13258. Thus, they were subject to OMB review.

Regulatory Flexibility Act

We certify that these proposed rules would not have a significant economic impact on a substantial number of small entities because they affect only individuals or entities acting on their behalf. Thus, a regulatory flexibility analysis as provided in the Regulatory Flexibility Act, as amended, is not required.

Paperwork Reduction Act

These proposed rules impose no reporting or record keeping requirements subject to OMB clearance.

(Catalog of Federal Domestic Assistance Program Nos. 96.001, Social Security-Disability Insurance; 96.002, Social Security-Retirement Insurance; 96.004, Social Security-Survivors Insurance; 96.006, Supplemental Security Income).

List of Subjects in 20 CFR Parts 401 and 402

Administrative practice and procedure, Freedom of information, Privacy.

Dated: February 27, 2006.
Jo Anne B. Barnhart,
Commissioner of Social Security.

For the reasons set out in the preamble, we propose to amend subpart C of part 401 and part 402 of chapter III of title 20 of the Code of Federal Regulations as set forth below:

PART 401—PRIVACY AND DISCLOSURE OF OFFICIAL RECORDS AND INFORMATION

1. The authority citation for part 401 continues to read as follows:

Authority: Secs. 205, 702(a)(5), 1106, and 1141 of the Social Security Act (42 U.S.C. 405, 902(a)(5), 1306, and 1320b-11); 5 U.S.C. 552 and 552a; 8 U.S.C. 1360; 26 U.S.C. 6103; 30 U.S.C. 923.

Appendix A to Part 401—[Amended]

2. Appendix A, paragraph (b)(3)(c)(4) is amended by removing the first sentence.

PART 402—AVAILABILITY OF INFORMATION AND RECORDS TO THE PUBLIC

1. The authority citation for part 402 continues to read as follows:

Authority: Secs. 205, 702(a)(5), and 1106 of the Social Security Act; (42 U.S.C. 405, 902(a)(5), and 1306); 5 U.S.C. 552 and 552a; 8 U.S.C. 1360; 18 U.S.C. 1905; 26 U.S.C. 6103; 30 U.S.C. 923b; 31 U.S.C. 9701; E.O. 12600, 52 FR 23781, 3 CFR, 1987 Comp., p. 235.

2. Section 402.45 is amended by adding paragraph (e) to read as follows:

§ 402.45 Availability of records.

* * * * *

(e) Federal employees. The agency will generally not disclose information when the data sought is a list of telephone numbers and/or duty stations of one or more Federal employees which, as determined by the official responsible for custody of the information:

(1) Is selected in such a way that would reveal more about the employee on whom information is sought than the aforementioned items, the disclosure of which would constitute a clearly unwarranted invasion of personal privacy; or

(2) Would otherwise be protected from mandatory disclosure under an exemption of the FOIA.

[FR Doc. E6-8697 Filed 6-5-06; 8:45 am]

BILLING CODE 4191-02-P